DEPARTMENT OF THE INTERIOR

Fish and Wildlife Service

Neotropical Migratory Bird Conserviaton Act: Request for Grants Proposals for Year 2002

AGENCY: Fish and Wildlife Service, Interior.

ACTION: Notice of request for proposals.

SUMMARY: The purpose of this notice is to advise the public that the Fish and Wildlife Service (Service) is accepting proposals for funding under the Neotropical Migratory Bird Conservation Act (Act) program. Projects may be for protection and management of neotropical migratory bird populations; maintenance, management, protection, and restoration of their habitats; research and monitoring; law enforcement; and community outreach and education. Projects may be located in the U.S., Latin America or the Caribbean, and require matching funds.

DATES: Proposals must be postmarked no later than May 13, 2002.

ADDRESSES: Address proposals to: Division of Bird Habitat Conservation, U.S. Fish and Wildlife Service, 4401 North Fairfax Drive, Suite 110, Arlington, Virginia 22203.

FOR FURTHER INFORMATION CONTACT: Mr. Douglas Ryan or Office Secretary, Division of Bird Habitat Conservation, 703.358.1784; facsimile 703.358.2282.

SUPPLEMENTARY INFORMATION: The purposes of the Neotropical Migratory Bird Conservation Act (Act) are to:

1. Perpetuate healthy populations of neotropical migratory birds;

2. Assist in the conservation of these birds by supporting conservation initiatives in the United States, Latin America, and the Caribbean; and

3. Provide financial resources and foster international cooperation for those initiatives.

The Act authorizes $5 million for this program, and Congress appropriated $3 million for Fiscal Year 2002. At a minimum, 75% of this money will be available for projects outside the United States. No maximum request has been established. The match ratio is 3:1, calculated in U.S. dollars. That is, every grant dollar requested under the Act must be matched by 3 partner dollars. U.S.-Federal funds may be used to support projects, but may not be used as match. Partner funds for U.S. projects must be in cash, whereas funds for projects in Latin America and the Caribbean may be cash or in-kind contribution.

Projects may be located in the United States and in all countries of Latin America and the Caribbean, with the exception of Cuba. Projects in Canada are not eligible for this funding. An applicant may be an individual, corporation, partnership, trust, association, other private entity, government agency in the U.S. or a foreign country, or an international organization.

The Service has submitted information collection requirements to the Office of Management and Budget (OMB) for review and approval under the Paperwork Reduction Act of 1995, Public Law 104-13. On December 21, 2001, OMB gave its approval for this information collection and confirmed the approval number as 1018-0113. An agency may not conduct or sponsor, and a person is not required to respond to, a collection of information unless it displays a currently valid OMB control number. The information collection solicited: is necessary to gain a benefit in the form of a grant, as determined by the Fish and Wildlife Service; is necessary to determine the eligibility and relative value of projects; results in an approximate paperwork burden of 40 hours per application; and does not carry a premise of confidentiality. The information collections in this program will not be part of a system of records covered by the Privacy Act (5 U.S.C. 552(a)).

Dated: April 1, 2002.
Steve A. Williams,
Director, Fish and Wildlife Service.

[FR Doc. 02-8801 Filed 4-10-02; 8:45 am]

BILLING CODE 4310-55-P